DEPARTMENT OF ENERGY

Federal Energy Regulatory Commission

Sunshine Act Meeting

October 12, 2006.

The following notice of meeting is published pursuant to section 3(a) of the government in the Sunshine Act (Pub. L. 94-409), 5 U.S.C 552b:.

Agency Holding Meeting: Federal Energy Regulatory Commission.

Date and Time: October 19, 2006, 10 a.m.

Place: Room 2C, 888 First Street NE., Washington, DC 20426.

Status: Open.

Matters to be Considered: Agenda.

Note: Items listed on the agenda may be deleted without further notice.

FOR FURTHER INFORMATION CONTACT: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

909th—Meeting
[Regular Meeting, October 19, 2006, 10 a.m.]
Item No. | Docket No. | Company
Administrative Agenda
A-1 | AD02-1-000 | Agency Administrative Matters.
A-2 | AD02-7-000 | Customer Matters, Reliability, Security and Market Operations.
A-3 | AD06-3-000 | Energy Market Update.
Electric
E-1 | RM06-16-000 | Mandatory Reliability Standards for the Bulk-Power System.
E-2 | RM06-10-000 | New PURPA Section 210(m) Regulations Applicable to Small Power Production and Cogeneration Facilities.
E-3 | RR06-3-000 | North American Electric Reliability Corporation.
E-4 | EL07-1-000 EL07-2-000 EL07-3-000 EL07-4-000 EL07-5-000 EL07-6-000 | California Independent System Operator Corp. ISO New England, Inc. PJM Interconnection, LLC. Midwest Independent Transmission System Operator, Inc. New York Independent System Operator, Inc. Southwest Power Pool, Inc.
E-5 | ER06-94-001 ER06-94-003 EL06-77-000 EL06-77-002 | ISO New England Inc.
E-6 | PL06-4-001 | Informal Staff Advice on Regulatory Requirements.
E-7 | EC06-125-000 EL06-85-000 | National Grid plc. KeySpan Corporation.
E-8 | EC06-127-000 | Northwestern Corporation. NorthWestern Energy Marketing, LLC. The Clark Fork and Blackfoot, LLC. Babcock & Brown Infrastructure Limited. BBI U.S. Holdings Pty Ltd. BBI U.S. Holdings II Corp. BBI Glacier Corp.
E-9 | ER06-1384-000 ER01-2781-004 | Entergy-Koch Trading, LP.
E-10 | ER06-1464-000 | ISO New England Inc. New England Power Pool Participants Committee.
E-11 | ER06-1443-000 ER06-1443-001 | Pennsylvania Power Company. FirstEnergy Service Company. Metropolitan Edison Company. Pennsylvania Electric Company. The Cleveland Electric Illuminating Company. Ohio Edison Company. The Toledo Electric Company.
E-12 | EC06-126-000 | Boston Edison Company. Cambridge Electric Light Company. Commonwealth Electric Company. Canal Electric Company.
E-13 | EC06-144-000 | Morgan Stanley & Company, Inc. EBG Holdings, LLC. Boston Generating, LLC. Mystic I, LLC. Mystic Development, LLC. Fore River Development, LLC.
E-14 | EC06-147-000 | Entegra Power Group LLC. Gila River Power, L.P. Union Power Partners, L.P. Morgan Stanley & Co. Inc. Merrill Lynch, Pierce, Fenner & Smith Inc.
E-15 | EC06-154-000 | Northeast Generation Company. Holyoke Water Power Company. NU Enterprises, Inc. Select Energy, Inc. NE Energy, Inc. Mt. Tom Generating Company LLC. ECP Energy, LLC.
E-16 | ER06-1094-010 | Alcoa Power Generating Inc. (Long Sault Division).
E-17 | ER03-647-008 | New York Independent System Operator, Inc.
E-18 | ER06-729-001 | Southwest Power Pool, Inc.
E-19 | OMITTED
E-20 | EL06-75-000 | Alcoa Inc.
E-21 | EL06-89-000 | Californians for Renewable Energy, Inc. v. California Independent System Operator Corporation.
E-22 | TS06-11-000 | Wabash Valley Power Association.
E-23 | TS06-13-000 | American Transmission Company LLC.
E-24 | EL05-15-001 | Arkansas Electric Cooperative Corporation v. Entergy Arkansas, Inc.
E-25 | ER04-928-002 | Public Utilities with Existing Contracts in the California Independent System Operator Corporation Region.
| ER02-1656-028 | California Independent System Operator Corporation.
E-26 | ER06-451-005 ER06-1047-001 ER06-451-006 ER05-1047-002 | Southwest Power Pool, Inc.
E-27 | RM04-12-002 | Accounting and Financial Reporting for Public Utilities including RTOs.
E-28 | ER02-2189-002 ER02-2189-003 | Southern California Edison Company.
Miscellaneous
M-1 | RM06-11-000 | Financial Accounting, Reporting and Records Retention Requirements Under the Public Utility Holding Company Act of 2005.
M-2 | RM06-25-000 | Electronic Filing of FERC Form No. 60.
M-3 | RM96-1-027 RM05-5-001 | Standards for Business Practices of Interstate Natural Gas Pipelines. Standards for Business Practices and Communication Protocols for Public Utilities.
Gas
G-1 | RP04-274-000 | Kern River Gas Transmission Company.
G-2 | OMITTED
Hydro
H-1 | OMITTED
H-2 | P-382-034 | Southern California Edison Company.
H-3 | P-20-072 | PacifiCorp.
H-4 | P-2030-048 | Portland General Electric Company and Confederated Tribes of the Warm Springs Reservation of Oregon.
H-5 | P-12462-009 | Indian River Power Supply, LLC.
H-6 | P-5018-011 | Wellesley Rosewood Maynard Mills, L.P.
Certificates
C-1 | RM06-7-000 | Revisions to the Blanket Certificate Regulations and Clarification Regarding Rates.
C-2 | RM06-1-000 | Regulations Implementing the Energy Policy Act of 2005; Coordinating the Processing of Federal Authorizations for Applications under Sections 3 and 7 of the Natural Gas Act and Maintaining a Complete Consolidated Record.

Magalie R. Salas,
Secretary.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

[FR Doc. E6-17322 Filed 10-16-06; 8:45 am]

BILLING CODE 6717-01-P